DEPARTMENT OF THE INTERIOR

[RR04310000, XXXR0680G1, RA202240000019200]

Notice of Availability for the Final Environmental Impact Statement for the Pojoaque Basin Regional Water System, Santa Fe County, New Mexico

AGENCY: Office of the Assistant Secretary—Water and Science, Interior.

ACTION: Notice of availability.

SUMMARY: The Secretary of the Interior, acting through the Bureau of Reclamation, announces the availability of the Final Environmental Impact Statement (FEIS) for the proposed Pojoaque Basin Regional Water System, as authorized by the Aamodt Litigation Settlement Act. The FEIS responds to comments received on the Draft Environmental Impact Statement during the comment period that ended on February 27, 2017, and identifies Alternative E as the preferred alternative for the Pojoaque Basin Regional Water System.

DATES: The Department of the Interior will complete a Record of Decision identifying the actions that will be implemented no sooner than 30 days after publication of the U.S. Environmental Protection Agency's Notice of Availability in the Federal Register.

ADDRESSES: The FEIS is available for viewing on the following websites: http://www.usbr.gov/uc/envdocs/eis.html or www.pojoaquebasineis.com. Compact disc copies may be obtained by contacting Ms. Sarah Branum, Bureau of Reclamation, Albuquerque Area Office, 555 Broadway NE, Suite 100, Albuquerque, New Mexico 87102; or via email to pojoaquebasineis@usbr.gov. Please see the SUPPLEMENTARY INFORMATION section for additional locations where the FEIS is available.

FOR FURTHER INFORMATION CONTACT: Ms. Sarah Branum, Environmental Project Manager, Bureau of Reclamation, sbranum@usbr.gov, (505) 462-3591. Persons who use a telecommunications device for the deaf may call the Federal Information Relay Service (FIRS) at 1-800-877-8339 to contact the above individual during normal business hours. The FIRS is available 24 hours a day, 7 days a week, to leave a message or question with the above-named individual. You will receive a reply during normal business hours.

SUPPLEMENTARY INFORMATION: The Bureau of Reclamation (Reclamation) prepared the FEIS in cooperation with the U.S. Bureau of Indian Affairs, U.S. Indian Health Service, U.S. Army Corps of Engineers, U.S. Fish and Wildlife Service, Pueblo de San Ildefonso, Pueblo of Nambé, Pueblo of Pojoaque, Pueblo of Tesuque, New Mexico Department of Transportation, Santa Fe County, and the City of Santa Fe. The FEIS has been updated according to public comments received during the 45-day Draft Environmental Impact Statement (DEIS) public review period (January 13-February 27, 2017) and other project updates. A summary of changes between the DEIS and FEIS is included in Chapter 1 of the FEIS.

Background: The Pojoaque Basin Regional Water System (RWS) is described in and authorized by the Aamodt Litigation Settlement Act (Title VI of the Claims Resolution Act of 2010; Public Law 111-291, Title VI; 124 Stat. 3065) (“Settlement Act”). The Settlement Act authorizes and ratifies the Aamodt Litigation Settlement Agreement (Settlement Agreement), dated January 19, 2006, as conformed to the Settlement Act and amendments. The settlement parties are the United States; the State of New Mexico; Santa Fe County; City of Santa Fe; Pueblo de San Ildefonso, Pueblo of Nambé, Pueblo of Pojoaque, Pueblo of Tesuque (Settlement Pueblos); and other individuals. The Settlement Agreement resolves the water rights claims of the Settlement Pueblos.

Among other provisions, the RWS and 2,220 acre-feet per year of new water supply to the basin are included in the Settlement Agreement in exchange for the Pueblos agreeing to reduce their claims to water within the basin and to limit their priority calls against existing non-Pueblo water users. The Settlement Agreement also addresses funding for other water-related projects on the Settlement Pueblos.

Proposed Federal Action: The Secretary of the Interior, through Reclamation, proposes to plan, design, and construct a regional water system in accordance with the Settlement Agreement, consisting of water diversion from the Rio Grande and water treatment facilities on the Pueblo de San Ildefonso, along with storage tanks and transmission and distribution pipelines that are necessary to supply up to 4,000 acre-feet of water annually to customers in the Pojoaque Basin.

Purpose of and Need for the Proposed Federal Action: The purpose of the proposed action is to reliably provide a firm, safe supply of treated drinking water for distribution in the Pojoaque Basin, in compliance with the Settlement Act. The need for action is to reduce reliance on groundwater in the Pojoaque Basin and to allow the Settlement Pueblos to receive a portion of the water provided under the Settlement Act. The proposed action would also enable the Settlement Pueblos to use funding made available in the Settlement Act for certain water-related infrastructure improvements, if requested. This funding can be requested prior to substantial completion of the RWS and, if approved by the Secretary, used for water-related improvements that would be more cost effective when implemented in conjunction with RWS construction (Settlement Act, Section 615[d][7][A][ii]).

The FEIS Analyzes Five Alternatives: The FEIS assesses the potential environmental effects of five alternatives for the RWS. These include the No Action Alternative (Alternative A), and four action alternatives (Alternatives B, C, D, and E) that vary in six main components or project elements:

1. Firm, reliable water supply.

2. Primary source water collection.

3. Water treatment.

4. Short-term storage.

5. Water transmission and distribution system, including pipelines, pumping plants, forebay tanks, and other associated facilities.

6. Electrical power service.

Alternative A: The No Action Alternative: The No Action Alternative is the “no build” alternative. Under this alternative, the RWS would not be constructed, the Settlement Agreement would be nullified, and Aamodt litigation over water rights claims would likely resume. A firm, reliable water supply would not be provided to residents of the Pojoaque Basin. Under the No Action Alternative, the benefits of the proposed RWS would not be realized. Use of domestic wells would continue to reduce groundwater and surface water supplies in the Pojoaque Basin. The Pueblos would continue to rely on their existing separate water systems, rather than integrating their systems into one regional system.

Alternative B: Alternative B incorporates the RWS facilities and components described in a 2008 Engineering Report prepared by HKM Engineering, Inc., as updated through surveys and public input. The HKM Engineering Report served as the preliminary RWS concept for the Settlement Act. Under this alternative, the RWS would consist of these components:

1. The firm, reliable water supply would be provided by diverting surface flows from the Rio Grande, supplemented by operational planning and scheduling of San Juan-Chama Project water supplies, as well as one of the following three backup aquifer storage and recovery water supply options:

• Three deep injection and recovery wells for injecting raw or treated surface water into an aquifer and recovering it for use in the RWS; or

• Three shallow injection and recovery wells for injecting raw or treated surface water into an aquifer and recovering it for use in the RWS; or

• Three shallow passive infiltration reaches and recovery wells for infiltrating raw surface water into an aquifer and recovering it for use in the RWS.

2. A side-channel surface diversion structure and pumping plant with a sediment removal and return system on the east bank of the Rio Grande on Pueblo de San Ildefonso lands, just north of the Otowi Bridge.

3. A water treatment plant and pumping plant on the Pueblo de San Ildefonso on the south side of State Highway 502, approximately 0.75 mile east of the Otowi Bridge.

4. Eleven new short-term storage tanks in addition to 13 existing storage tanks.

5. A water transmission and distribution system including approximately 194 miles of pipelines, seven pumping plants, and pressure-reducing and flow-control valves.

6. Approximately 15 miles of new electrical distribution lines.

Alternative C: Under this alternative, the RWS would consist of the following major components:

1. The firm, reliable water supply would be provided by collecting flows from beneath and adjacent to the Rio Grande (the hyporheic zone), supplemented by operational planning and scheduling of San Juan-Chama Project water supplies.

2. A parallel river interceptor drain in the alluvium to collect water from below the water table in the bosque on the east side of the Rio Grande north of the Otowi Bridge.

3. A water treatment plant on the eastern portion of the Pueblo de San Ildefonso, on the east side of County Road 101D, near the El Rancho power substation.

4. Eleven new short-term storage tanks in addition to 13 existing storage tanks.

5. A water transmission and distribution system including approximately 189 miles of pipelines, one surge tank, six pumping plants, and pressure-reducing and flow-control valves.

6. Approximately 7 miles of new electrical distribution lines supplemented by distributed solar generation.

Alternative D: Under Alternative D, the RWS would consist of the following major components:

1. The firm, reliable water supply would be provided by collecting flows from the hyporheic zone of the Rio Grande, supplemented by operational planning and scheduling of San Juan-Chama Project water supplies.

2. An infiltration gallery (an estimated 180 horizontal drains to collect water from below the water table) on the east bank of the Rio Grande.

3. A water treatment plant on the eastern portion of the Pueblo de San Ildefonso, on the east side of County Road 101D, near the El Rancho power substation.

4. Sixteen new short-term storage tanks in addition to 13 existing tanks.

5. A water transmission and distribution system, including approximately 187 miles of pipelines, one surge tank, six pumping plants, and pressure-reducing and flow-control valves.

6. Approximately 7 miles of new electrical distribution lines, with solar-ready facilities.

Alternative E: Preferred Alternative: Under this alternative, the RWS would consist of the following major components:

1. The firm, reliable water supply would be provided by collecting flows from the hyporheic zone of the Rio Grande and supplementing it with operational planning and scheduling of San Juan-Chama Project water supplies; emergency use wells would allow water to be withdrawn during emergencies lasting longer than two days that cannot be supplied by short-term storage tanks.

2. Four horizontal radial well collectors to divert water from below the water table on the east bank of the Rio Grande.

3. A water treatment plant located on the west side of County Road 101D, north of State Highway 502.

4. Seven new short-term storage tanks, in addition to 14 existing storage tanks.

5. A water transmission and distribution system, including approximately 151 miles of pipelines, one surge tank, 6 pumping plants, and pressure-reducing and flow-control valves.

6. Approximately 7 miles of new overhead and buried electrical distribution lines, with solar-ready facilities.

Connected Actions: The FEIS also includes analyses of three connected actions: (1) The Rio Pojoaque irrigation improvement project, (2) the Pueblo de San Ildefonso future projects which consist of wastewater system improvements and water distribution infrastructure, and (3) the Rio Tesuque channel modification project. Each of the connected actions have been analyzed in the FEIS to the extent that the details of the projects have been developed.

Copies of the FEIS: The FEIS may be viewed at:

• Natural Resources Library, U.S. Department of the Interior, 1849 C Street NW, Main Interior Building, Washington, DC 20240-0001.

• Bureau of Reclamation, Upper Colorado Region, Public Affairs Office, 125 South State Street, Room 8100, Salt Lake City, Utah 84138.

• Bureau of Reclamation, Albuquerque Area Office, 555 Broadway NE, Suite 100, Albuquerque, New Mexico 87102.

• Santa Fe County Pojoaque Satellite Office, 5 West Gutierrez, Suite 9, Pojoaque, New Mexico 87506 (in the Pojoaque Pueblo Plaza).

• Santa Fe Public Library, 145 Washington Avenue, Santa Fe, New Mexico 87501.

• New Mexico State Library, 1209 Camino Carlos Rey, Santa Fe, New Mexico 87507.

• Santa Fe Community College Library, 6401 Richards Avenue, Santa Fe, New Mexico 87508.

Public Disclosure of Comments: Before including your address, phone number, email address, or other personal identifying information in any correspondence, you should be aware that your entire correspondence—including your personal identifying information—may be made publicly available at any time. While you may ask us in your correspondence to withhold your personal identifying information from public review, we cannot guarantee that we will be able to do so.

Dated: December 20, 2017.
Andrea Travnicek,
Deputy Assistant Secretary for Water and Science, Exercising the Authority of the Assistant Secretary for Water and Science.

[FR Doc. 2018-00427 Filed 1-11-18; 8:45 am]

BILLING CODE 4332-90-P